ENVIRONMENTAL PROTECTION AGENCY

[ER-FRL-9007-4]

Environmental Impacts Statements; Notice of Availability

Responsible Agency: Office of Federal Activities, General Information (202) 564-7146 or http://www.epa.gov/compliance/nepa/.

Weekly receipt of Environmental Impact Statements

Filed 01/22/2013 Through 01/25/2013

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp

EIS No. 20130016, Draft EIS, USFS, MN, Boundary Waters Canoe Area Wilderness (BWCAW) Non-native Plant Management Project, Cook, Lake and St. Louis Counties, MN, Comment Period Ends: 03/18/2013, Contact: Jack Greenlee 218-229-8817.

EIS No. 20130017, Final EIS, AFS, OR, Rim Paunina Project and Forest Plan Amendments, Crescent Ranger District, Deschutes National Forest, Klamath County, OR, Comment Period Ends: 03/15/2013, Contact: Tim Foley 541-433-3200.

EIS No. 20130018, Final EIS, BIA, WA, Spokane Tribe of Indians West Plains Casino and Mixed-Use Development Project, Approval of Gaming Development and Management, Spokane County, WA, Review Period Ends: 03/04/2013, Contact: Dr. B.J. Howerton 503-231-6749.

Dated: January 29, 2013.
Cliff Rader,
Director, NEPA Compliance Division, Office of Federal Activities.

[FR Doc. 2013-02205 Filed 1-31-13; 8:45 am]

BILLING CODE 6560-50-P